DEPARTMENT OF TRANSPORTATION

Federal Aviation Administration

14 CFR Part 71

[Docket No. FAA-2022-1678; Airspace Docket No. 22-AWA-4]

RIN 2120-AA66

Amendment of the Nashville International Airport Class C Airspace; Nashville, TN; and the John C. Tune Airport Class D Airspace; Nashville, TN

AGENCY: Federal Aviation Administration (FAA), DOT.

ACTION: Final rule; correction.

SUMMARY: This action corrects a final rule published by the FAA in the Federal Register on June 6, 2023, that amended the Nashville International Airport Class C airspace area and the John C. Tune Class D airspace area. In the final rule, the words “(when active)” were inadvertently omitted from the sentences that exclude the Smyrna Airport Class D airspace from the Nashville Class C airspace area. The error would cause the incorrect depiction of the Class C and Class D airspace areas on aeronautical charts. This action corrects that error.

DATES: Effective date 0901 UTC, August 10, 2023. The Director of the Federal Register approves this incorporation by reference action under 1 CFR part 51, subject to the annual revision of FAA Order JO 7400.11 and publication of conforming amendments.

ADDRESSES: A copy of the Notice of Proposed Rulemaking (NPRM), all comments received, the final rule, this final rule correction, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule for Docket No. FAA-2022-1678 in the Federal Register (88 FR 36936; June 6, 2023), amending the Nashville International Airport Class C airspace area and the John C. Tune Class D airspace area. Subsequent to publication, the FAA determined that the words “(when active)” were inadvertently omitted from the preamble discussion and regulatory text that describe the exclusion of the Smyrna Class D airspace from the Nashville Class C airspace area. Since the Smyrna Class D airspace is a part-time designation, it is only excluded from the Class C airspace during the times the Class D is active. This rule corrects the preamble discussion, and the regulatory text by adding “(when active)” following all references to the exclusion of the Smyrna Class D airspace. This complies with aeronautical charting specification requirements to ensure the proper depiction of the airspace on the applicable charts. This action does not alter the actual dimensions of the Class C or Class D airspace areas.

Correction to Final Rule

Accordingly, pursuant to the authority delegated to me, the preamble discussion and regulatory text contained in Docket No. FAA-2022-1678, as published in the Federal Register of June 6, 2023 (88 FR 36936), FR Doc. 2023-11909, are corrected as follows:

1. In FR Doc. 2023-11909, on page 36938, add the words “(when active)” following both instances of the phrase “. . . excludes that portion of airspace that is within the Smyrna Airport Class D airspace area”, so that they read: “. . . excludes that portion of airspace that is within the Smyrna Airport Class D airspace area (when active);”.

2. Amend the Nashville, TN Airport Class C description by adding the words “(when active)” following references to the Smyrna, TN, Airport Class D airspace area, to read as follows:

§ 71.1 [Corrected]

* * * * *

ASO TN C Nashville, TN [Amended]

Nashville International Airport, TN

(Lat. 36°07′28″ N, long. 86°40′41″ W)

Smyrna Airport, TN

(Lat. 36°00′32″ N, long. 86°31′12″ W)

That airspace extending upward from the surface to 6,000 feet MSL within a 5-mile radius of Nashville International Airport; and that airspace extending upward from the surface to 6,000 feet MSL within a 7-mile radius of Nashville International Airport from the 335° bearing from the airport clockwise to the 230° bearing from the airport, excluding that portion within the Smyrna Airport, TN, Class D airspace area (when active); and that airspace extending upward from 1,800 feet MSL to 6,000 feet MSL within a 15-mile radius of Nashville International Airport from the 335° bearing from the airport clockwise to the 060° bearing from the airport; and that airspace extending upward from 2,400 feet MSL to 6,000 feet MSL within a 15-mile radius of the airport from the 060° bearing from the airport clockwise to the 155° bearing from the airport, excluding that portion within the Smyrna Airport, TN, Class D airspace area (when active); and that airspace extending upward from 1,800 feet MSL to 6,000 feet MSL within a 15-mile radius of Nashville International Airport from the 155° bearing from the airport clockwise to the 230° bearing from the airport; and that airspace extending upward from 2,400 feet MSL to 6,000 feet MSL within a 15-mile radius of Nashville International Airport from the 230° bearing from the airport clockwise to the 335° bearing from the airport.

* * * * *

Issued in Washington, DC.
Brian Konie,
Acting Manager, Airspace Rules and Regulations.

[FR Doc. 2023-13388 Filed 6-23-23; 8:45 am]

BILLING CODE 4910-13-P